OFFICE OF SCIENCE AND TECHNOLOGY POLICY

Meeting of the President's Council of Advisors on Science and Technology

ACTION: Notice of meeting.

SUMMARY: This notice sets forth the schedule and summary agenda for a meeting of the President's Council of Advisors on Science and Technology (PCAST), and describes the functions of the Council. Notice of this meeting is required under the Federal Advisory Committee Act (FACA).

Dates and Place: June 10, 2003, Washington, DC. The meeting will be held in the Washington Room (roof level) of the Hotel Washington, 15th Street & Pennsylvania Avenue, NW., Washington, DC 20004.

Type of Meeting: Open. For details on the agenda please see the PCAST web site at: http://www.ostp.gov/PCAST/pcast.html.

Proposed Schedule and Agenda: The President's Council of Advisors on Science and Technology is scheduled to meet in open session on Tuesday June 10, 2003, at approximately 9 a.m. The PCAST will: (1) Discuss the status of the work of its workforce-education and information technology manufacturing-competitiveness subcommittees; (2) discuss a draft report from the subcommittee on the science and technology of combating terrorism; and (3) discuss various aspects of its review of the federal National Nanotechnology Initiative. This session will end at approximately 3 p.m. Additional information on the agenda can be found at the PCAST web site at: http://www.ostp.gov/PCAST/pcast.html.

Public Comments: There will be a time allocated for the public to speak on the above agenda items. This public comment time is designed for substantive commentary on PCAST's work topics, not for business marketing purposes. Please submit a request for the opportunity to make a public comment five (5) days in advance of the meeting. Presentations will be reviewed for appropriate content and marketing opportunities will not be provided. The time for public comments will be limited to no more than 5 minutes per person. Written comments are also welcome at any time following the meeting. Please notify Stan Sokul, PCAST Executive Director, at (202) 456-6070, or fax your request/comments to (202) 456-6021.

FOR FURTHER INFORMATION CONTACT: For information regarding time, place and agenda, please call Cynthia Chase at (202) 456-6010, prior to 3 p.m. on Friday, June 6, 2003. Information will also be available at the PCAST web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Stanley S. Sokul,
Executive Director, PCAST, and Counsel, Office of Science and Technology Policy.

[FR Doc. 03-13499 Filed 5-28-03; 8:45 am]

BILLING CODE 3170-01-P